DEPARTMENT OF TRANSPORTATION

Surface Transportation Board

[STB Finance Docket No. 35177]

Genesee & Wyoming Inc.—Control Exemption—Aliquippa & Ohio River Railroad Co., The Columbus and Ohio River Rail Road Company, The Mahoning Valley Railway Company, Ohio and Pennsylvania Railroad Company, Ohio Central Railroad, Inc., The Pittsburgh & Ohio Central Railroad Company, Ohio Southern Railroad, Inc., Youngstown & Austintown Railroad, Inc., The Youngstown Belt Railroad Company, and The Warren & Trumbull Railroad Company

AGENCY: Surface Transportation Board.

ACTION: Notice of Exemption.

SUMMARY: The Board grants an exemption, under 49 U.S.C. 10502, from the prior approval requirements of 49 U.S.C. 11323-25 for Genesee & Wyoming Inc. (GWI), a noncarrier, to acquire control of Summit View, Inc. (Summit View), and thereby to acquire control of the 10 Class III railroads controlled by Summit View, pursuant to a Stock Purchase Agreement entered into by and between GWI and Jerry Joe Jacobson, owner of all Summit View shares. The transaction will be subject to the labor protection required by 49 U.S.C. 11326(b).

DATES: This exemption will be effective on January 29, 2009. Petitions to stay must be filed by January 12, 2009. Petitions to reopen must be filed by January 21, 2009.

ADDRESSES: Send an original and 10 copies of all pleadings, referring to STB Finance Docket No. 35177, to: Surface Transportation Board, 395 E Street, SW., Washington, DC 20423-0001. In addition, send one copy of pleadings to David H. Coburn, Steptoe & Johnson LLP, 1330 Connecticut Avenue, NW., Washington, DC 20036.

FOR FURTHER INFORMATION CONTACT: Melissa Ziembicki, (202) 245-0386 [Assistance for the hearing impaired is available through the Federal Information Relay Service (FIRS) at 1-800-877-8339].

SUPPLEMENTARY INFORMATION: Additional information is contained in the Board's decision. Board decisions and notices are available on our Web site at “http://www.stb.dot.gov.”

Decided: December 22, 2008.
By the Board, Chairman Nottingham, Vice Chairman Mulvey, and Commissioner Buttrey.
Jeffrey Herzig,
Clearance Clerk.

[FR Doc. E8-30973 Filed 12-29-08; 8:45 am]

BILLING CODE 4915-01-P